DEPARTMENT OF COMMERCE

National Oceanic and Atmospheric Administration

[Docket No. 030602141-6291-43]

Availability of Grants Funds for Fiscal Year 2007; Reopening of Application Deadline

AGENCY: National Oceanic and Atmospheric Administration (NOAA), Department of Commerce (DOC).

ACTION: Notice

SUMMARY: NOAA publishes this notice to reopen the solicitation period on the “NOAA Office of Hydrologic Development Hydrologic Research Announcement of Opportunity, FY 2007,” which was originally announced in the Federal Register on June 12, 2006. This notice is being modified to more fully explain ensemble streamflow forecasting. This notice applies to only those applicants who have already submitted pre-proposals. The solicitation period is being extended from June 12, 2006, to December 15, 2006, to provide pre-proposal applicants the opportunity to submit revised proposals.

DATES: Proposals must be received by the NWS no later than 3 p.m., eastern standard time, December 15, 2006.

ADDRESSES: Applications should be submitted electronically to http://www.grants.gov/. Electronic submission is strongly encouraged. Applicants without Internet access may send hard copy applications to Pedro Restrepo, NOAA/NWS; 1325 East-West Highway, Room 8176, phone number 301-713-0640, ext. 210; Silver Spring, MD 20910-3283; these applications must be received by the Office of Hydrologic Development no later than 3 p.m. EST on December 15, 2006.

FOR FURTHER INFORMATION CONTACT: Dr. Pedro Restrepo by phone at 301-713-0640 ext. 210, or fax to 301-713-0963, or via internet at Pedro.Restrepo@noaa.gov.

SUPPLEMENTARY INFORMATION: NOAA recently became aware that the Office of Hydrologic Development Hydrologic Research's Announcement of Opportunity for FY 2007 (71 FR 33919, June 12, 2006) did not clearly describe the program priority identified as Ensemble Streamflow Forecasting, which was listed under the heading: “B. NWS/OHD/HL Hydrologic Modeling Priorities.” In order to ensure that applicants are fully informed of NOAA's program priorities, NOAA clarifies that Ensemble Streamflow Forecasting includes the preprocessing of atmospheric forecasts, and the use of weather and climate reforecast datasets to produce reliable and skillful ensemble forcing and to evaluate improvement in hydrologic forecast skill.

NOAA recognizes that applicants who submitted their full proposals may wish to revise their submission in light of this clarification. Therefore, NOAA re-opens the solicitation period from November 22, 2006 to December 15, 2006 to allow these applicants the opportunity to revise and submit their full proposals. This re-opening applies only to those applicants who previously submitted a pre-proposal. This re-opening is not a solicitation for new pre-proposals. All other requirements for this solicitation remain the same.

Limitation of Liability

In no event will NOAA or the Department of Commerce be responsible for proposal preparation costs if this program is cancelled because of other agency priorities. Publication of this announcement does not oblige NOAA to award any specific project or to obligate any available funds. Applicants are hereby given notice that funding for the Fiscal Year 2007 program is contingent upon the availability of Fiscal Year 2007 appropriations.

Universal Identifier

Applicants should be aware they are required to provide a Dun and Bradstreet Data Universal Numbering System (DUNS) number during the application process. See the October 30, 2002, Federal Register, (67, FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment. The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: November 14, 2006.
D.L. Johnson,
NOAA Assistant Administrator for Weather Services.

[FR Doc. E6-19800 Filed 11-21-06; 8:45 am]

BILLING CODE 3510-KE-P